DEPARTMENT OF COMMERCE

National Oceanic and Atmospheric Administration

[RTID 0648-XB575]

North Pacific Fishery Management Council; Public Meeting

AGENCY: National Marine Fisheries Service (NMFS), National Oceanic and Atmospheric Administration (NOAA), Commerce.

ACTION: Notice of web conference.

SUMMARY: The North Pacific Fishery Management Council (Council) Charter Halibut Management Committee will meet December 6, 2021.

DATES: The meeting will be held on Monday, December 6, 2021, from 8 a.m. to 4 p.m., Alaska Time.

ADDRESSES: The meeting will be a web conference. Join online through the link at https://meetings.npfmc.org/Meeting/Details/2561.

Council address: North Pacific Fishery Management Council, 1007 W 3rd Ave, Anchorage, AK 99501-2252; telephone: (907) 271-2809. Instructions for attending the meeting via video conference are given under SUPPLEMENTARY INFORMATION, below.

FOR FURTHER INFORMATION CONTACT: Sarah Marrinan, Council staff; phone; (907) 271-2809; email: sarah.marrinan@noaa.gov. For technical support please contact our admin Council staff, email: npfmc.admin@noaa.gov.

SUPPLEMENTARY INFORMATION:

Agenda

Monday, December 6, 2021

The Charter Halibut Management Committee will meet to discuss and recommend charter halibut management measures in International Pacific Halibut Commission (IPHC) Areas 2C and 3A for 2022. The Committee will first review the ADF&G analysis for projected charter removals for 2022 under different management scenarios to determine the measures that may be required to keep the charter halibut sector under its allocation. Since the allocations are set after the IPHC first determines the area apportionments for halibut, the Committee will indicate a range of preferred management measures contingent on where the charter halibut catch limit is set. The Committee will also discuss upcoming meetings and any other business. The agenda is subject to change, and the latest version will be posted at: https://meetings.npfmc.org/Meeting/Details/2561 prior to the meeting, along with meeting materials.

Connection Information

You can attend the meeting online using a computer, tablet, or smart phone; or by phone only. Connection information will be posted online at: https://meetings.npfmc.org/Meeting/Details/2561.

Public Comment

Public comment letters will be accepted and should be submitted electronically to https://meetings.npfmc.org/Meeting/Details/2561.

Although other non-emergency issues not on the agenda may come before this group for discussion, those issues may not be the subject of formal action during this meeting. Actions will be restricted to those issues specifically listed in this notice and any issues arising after publication of this notice that require emergency action under section 305(c) of the Magnuson-Stevens Fishery Conservation and Management Act, provided the public has been notified of the Council's intent to take final action to address the emergency.

Authority: 16 U.S.C. 1801 et seq.

Dated: November 9, 2021.
Tracey L. Thompson,
Acting Deputy Director, Office of Sustainable Fisheries, National Marine Fisheries Service.

[FR Doc. 2021-24845 Filed 11-12-21; 8:45 am]

BILLING CODE 3510-22-P